NATIONAL SCIENCE FOUNDATION

Agency Information Collection Activities; Comment Request

AGENCY: National Science Foundation.

ACTION: Submission for OMB review; comment request.

SUMMARY: The National Science Foundation (NSF) has submitted the following information collection requirement to OMB for review and clearance under the Paperwork Reduction Act of 1995, Pub. L. 104-13. This is the second notice for public comment; the first was published in the Federal Register at 70 FR 75228, and twenty-six (26) comments were received. NSF is forwarding the proposed renewal submission to the Office of Management and Budget (OMB) for clearance simultaneously with the publication of this second notice. Comments regarding (a) whether the collection of information is necessary for the proper performance of the functions of the agency, including whether the information will have practical utility; (b) the accuracy of the agency's estimated of burden including the validity of the methodology and assumptions used; (c) ways to enhance the quality, utility and clarity of the information to be collected; (d) ways to minimize the burden of the collection of information on those who are to responded, including through the use of appropriate automated, electronic, mechanical or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Comment: On December 19, 2005, we published in the Federal Register (70 FR 75228) a 60-day notice of our intent to request renewal of this information collection authority from OMB. In that notice, we solicited public comments for 60 days ending February 17, 2006. Twenty-six (26) comments were received in response to the public notice. One comment came from B. Sachau of Florham Park, NJ, via e-mail on December 19, 2005. Ms. Sachau objected to the information collection but had no specific suggestions for altering the data collection plans other than to discontinue them entirely.

Response: NSF believes that because the comment does not pertain to the collection of information on the required forms for which NSF is seeking OMB approval, NSF is proceeding with the clearance request.

Comment: Public comments have been received by NSF from 23 persons in response to the announcement, as of the close-out date of February 17, 2006. These all were the same e-mail (distributed at the National Communication Association meeting) that proposed breaking apart the Commission fields and placing them in 3 separate categories on the SED Field of Study List. In addition, SRS directly received 2 e-mails from individuals in the Association for Education in Journalism and Mass Communication who opposed the National Communication Association proposal for the Field of Study listing.

Response: NSF has taken these suggestions (along with other suggestions received on the same topic) into consideration concerning the placement of the field of Communication on the Field of Study list for respondents to select their bachelor's, master's and doctorate degree field of study.

Title of Collection: Survey of Earned Doctorates.

OMB Approval Number: 3145-0019.

Type of Request: Intent to seek approval to extend an information collection for three years.

1. Abstract: The National Science Foundation Act of 1950, as subsequently amended, includes a statutory charge to “provide a central clearinghouse for the collection, interpretation, and analysis of data on scientific and engineering resources, and to provide a source of information for policy formulation by other agencies of the Federal Government.” The Survey of Earned Doctorates is part of an integrated survey system that meets the human resources part of this mission.

The Survey of Earned Doctorates (SED) has been conducted continuously since 1958 and is jointly sponsored by six Federal agencies in order to avoid duplication. It is an accurate, timely source of information on our Nation's most precious resource—highly educated individuals. Data are obtained via paper questionnaire or Web option from each person earning a research doctorate at the time they receive the degree. Data are collected on their field of specialty, educational background, sources of support in graduate school, debt level, postgraduation plans for employment, and demographic characteristics. For the 2007 SED, minor changes to questions, based on focus group and cognitive testing will be incorporated into the questionnaire. Also for 2007, a field test of potential questions about salary after graduation will be conducted with less than 9 institutions. Based on the field test results, the intention is to add a salary question in 2008.

The Federal Government, universities, researchers, and others use the information extensively. The National Science Foundation, as the lead agency, publishes statistics from the survey in many reports, but primarily in the annual publication series, “Science and Engineering Doctorates”. The National Opinion Research Corporation at the University of Chicago disseminates a free interagency report entitled “Doctorate Recipients from U.S. Universities: Summary Report.” These reports are available in print and electronically on the World Wide Web.

The survey will be collected in conformance with the Privacy Act of 1974. Responses from individuals are voluntary. NSF will ensure that all information collected will be kept strictly confidential and will be used for research and statistical purposes, analyzing data, and preparing scientific reports and articles.

2. Expected Respondents: A total response rate of 90.8% of the total 42,155 persons who earned a research doctorate was obtained in the 2004 SED. This level of response rate has been consistent for several years. The respondents will be individuals and the estimated number of respondents annually is 47,787 with a response rate of 92%.

3. Estimate of Burden: The Foundation estimates that, on average, 19 minutes per respondent will be required to complete the survey, for a toal of 12,465 hours for all respondents (based on the 2004 SED numbers). Also, for the approximately 3,000 respondents in the field test on a salary question, there would be approximately another 50 hours of response time. The total response burden is therefore estimated at 12,171 hours for the 2007 SED. This is slightly higher than the last annual estimate approved by OMB due primarily to an increased number of respondents since the last clearance request.

Dated: March 15, 2006.
Suzanne H. Plimpton,
Reports Clearance Officer, National Science Foundation.

[FR Doc. 06-2657 Filed 3-20-06; 8:45 am]

BILLING CODE 7555-01-M